GOVERNMENT ACCOUNTABILITY OFFICE

Financial Management and Assurance; Government Auditing Standards

AGENCY: Government Accountability Office.

ACTION: Notice of document availability.

SUMMARY: One June 9, 2006, the U.S. Government Accountability Office (GAO) issued an exposure draft of proposed revisions to Government Auditing Standards (GAGAS) (also known as the Yellow Book) (GAO-06-729g). To help ensure that the standards continue to meet the needs of the audit community and the public it serves, the Comptroller General of the United States appointed the Advisory Council on Government Auditing Standards to review the standards and recommend necessary changes. The Advisory Council includes experts in financial and performance auditing drawn from all levels of government, private enterprise, public accounting, and academia. This exposure draft of the standards includes the Advisory Council's suggestions for proposed changes. We are currently requesting public comments on the proposed revisions in the exposure draft.

The proposed 2006 revision to GAGAS will be the fifth revision since the standards were first issued in 1972. The 206 Yellow Book exposure draft seeks to emphasize the critical role of high quality government audits in achieving credibility and accountability in government. the overall focus of the proposed 2006 revised standards includes an increased emphasis on audit quality and ethics and an extensive update of the performance audit standards to include a specified level of assurance with the context of risk and materiality. In addition, this proposed revision modernizes GAGAS, with updates to reflect major developments in the accountability and audit environment. Clarifications have also been made throughout the standards.

DATES: Comments will be accepted through August 15, 2006.

ADDRESSES: A copy of the exposure draft can be obtained on the Internet on GAO's Home Page http://www.gao.gov/govaud/ybk01.htm.

FOR FURTHER INFORMATION CONTACT: Michael Hrapsky, Senior Project Manager, at (202) 512-9535 or Jeanette Franzel, Director, Financial Management and Assurance at (202) 512-9471.

SUPPLEMENTARY INFORMATION: To ensure that your comments are considered by GAO and the Advisory Council in their deliberations, please submit them by August 15, 2006. Please send your comments electronically to http://yellowbook@gao.gov.

[Public Law 67-13, 42 Stat. 20 (June 10, 1921)]

Jeanette Franzel,
Director, Financial Management and Assurance.

[FR Doc. 06-5393 Filed 6-13-06; 8:45 am]

BILLING CODE 1610-02-M